DEPARTMENT OF COMMERCE

International Trade Administration

(A-549-812)

Notice of Final Results of Antidumping Duty Administrative Review: Furfuryl Alcohol from Thailand

AGENCY: Import Administration, International Trade Administration, Department of Commerce.

SUMMARY: On July 21, 2005, the Department of Commerce published the preliminary results of the administrative review of the antidumping duty order on furfuryl alcohol from Thailand. The period of review is July 1, 2003, through June 30, 2004. The final results do not differ from the preliminary results of this review, in which we found that sales of the subject merchandise have not been made below normal value. We will instruct the U.S. Bureau of Customs and Border Protection not to assess antidumping duties on the subject merchandise exported by this company.

EFFECTIVE DATE: November 25, 2005.

FOR FURTHER INFORMATION CONTACT: Andrew Smith or Brandon Farlander, AD/CVD Operations, Office 1, Import Administration, International Trade Administration, U.S. Department of Commerce, 14th Street and Constitution Avenue, NW, Washington, DC 20230; telephone: (202) 482-1276 and (202) 482-0182, respectively.

SUPPLEMENTARY INFORMATION:

Background

Since the July 21, 2005, publication of the preliminary results in this review (see Notice of Preliminary Results of Antidumping Duty Administrative Review: Furfuryl Alcohol from Thailand, 70 FR 42029 (July 21, 2005) (“Preliminary Results”)), the following events have occurred:

We invited parties to comment on the Preliminary Results of the review. On August 22, 2005, the respondent, Indorama Chemicals (Thailand) Ltd. (“IRCT”), and the petitioner, Penn Specialty Chemicals, Inc. (“petitioner”), each filed case briefs. On August, 29, 2005, the respondent and petitioner each filed rebuttal briefs. On October 27, 2005, the Department rejected the petitioner's case brief and IRCT's rebuttal brief on the basis that these briefs contained new factual information. The deadline for submission of new factual information was October 20, 2004. On November 2, 2005, the petitioner and IRCT each filed a new case brief and rebuttal brief, respectively, absent the information the Department deemed to be new information.

Scope of the Order

The merchandise covered by this order is furfuryl alcohol (C4H3OCH2OH). Furfuryl alcohol is a primary alcohol, and is colorless or pale yellow in appearance. It is used in the manufacture of resins and as a wetting agent and solvent for coating resins, nitrocellulose, cellulose acetate, and other soluble dyes.

The product subject to this order is classifiable under subheading 2932.13.00 of the Harmonized Tariff Schedule of the United States (“HTSUS”). Although the HTSUS subheading is provided for convenience and customs purposes, our written description of the scope of this proceeding is dispositive.

Period of Review

The period of review is July 1, 2003, through June 30, 2004.

Analysis of Comments Received

All issues raised in the case brief filed by parties to this review are addressed in the “Issues and Decision Memorandum for 2003-2004 Administrative Review of Furfuryl Alcohol from Thailand” from Stephen J. Claeys, Deputy Assistant Secretary for Import Administration to Joseph A. Spetrini, Acting Assistant Secretary for Import Administration, dated November 18, 2005 (“Decision Memo”), which is hereby adopted by this notice. Attached to this notice as an appendix is a list of the issues that parties have raised and to which we have responded in the Decision Memo. Parties can find a complete discussion of all issues raised in this review and the corresponding recommendations in this public memorandum, which is on file in the Department of Commerce's (“the Department”) Central Records Unit, located in Room B-099 of the main Department building (“CRU”). In addition, a complete version of the Decision Memo can be accessed directly on the Web at http://ia.ita.doc.gov/frn/index.html. The paper copy and electronic version of the Decision Memo are identical in content.

Fair Value Comparisons

To determine whether sales of furfuryl alcohol by IRCT to the United States were made at less than normal value (“NV”), we compared export price (“EP”) to NV. Our calculations followed the methodologies described in the Preliminary Results, except as noted below and in the final results calculation memorandum cited below, which is on file in the CRU.

Export Price

We calculated EP in accordance with section 772(a) of the Tariff Act of 1930, as amended (“the Act”), because the merchandise was sold to the first unaffiliated purchaser in the United States prior to importation by the exporter/producer outside the United States and because constructed export price methodology was not otherwise warranted. We calculated EP based on the same general methodology described in the Preliminary Results.

Normal Value

Except as noted below, we used the same methodology as that described in the Preliminary Results to determine the cost of production and the NV. As discussed in the Decision Memo, we used IRCT's reported interest expense ratio in these final calculations.

Changes from the Preliminary Results

Based on our review of the comments received, we have made certain changes to the calculations for the final results. Specifically, we re-calculated the cost of manufacture, general and administrative expenses, duty drawback adjustment, and U.S. packing expense for the final results. These changes are discussed in the Decision Memo and in the final results calculation memorandum. See “Final Results Calculation Memorandum for Indorama Chemicals (Thailand) Ltd.,” dated November 18, 2005, which is on file in the CRU.

Final Results of the Review

We determine that the following margin percentage exists for the period July 1, 2003, through June 30, 2004:

Exporter/manufacturer | Weighted-average margin percentage
Indorama Chemicals (Thailand) Ltd. | 0.00

Assessment Rates

The Department shall determine, and U.S. Customs and Border Protection (“CBP”) shall assess, antidumping duties on all appropriate entries. In accordance with 19 CFR 351.212(b)(1), we have calculated exporter/importer (or customer)-specific assessment rates for merchandise subject to this review. To determine whether the duty assessment rate is de minimis, in accordance with the requirement set forth in 19 CFR 351.106(c)(2), we calculated importer-specific (or customer-specific) ad valorem rates by aggregating the dumping margins calculated for all U.S. sales to that importer (or customer) and dividing this amount by the total value of the sales to that importer (or customer). Where an importer-specific (or customer-specific) ad valorem rate is greater than de minimis, we calculated a per-unit assessment rate by aggregating the dumping margins calculated for all U.S. sales to that importer (or customer) and dividing this amount by the total quantity sold to that importer (or customer).

The Department will issue appropriate assessment instructions directly to CBP within 15 days of publication of these final results of review.

Cash Deposit Rates

The following antidumping duty deposits will be required on all shipments of furfuryl alcohol from Thailand entered, or withdrawn from warehouse, for consumption, effective on or after the publication date of the final results of this administrative review, as provided by section 751(a)(1) of the Act: (1) the cash deposit rate for the reviewed company will be the rate listed above (except no cash deposit will be required if a company's weighted-average margin is de minimis, i.e., less than 0.5 percent); (2) for previously reviewed or investigated companies not listed above, the cash deposit rate will continue to be the company-specific rate published for the most recent period; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 7.82 percent, the “all others” rate established in Furfuryl Alcohol from Thailand: Notice of Amended Final Antidumping Duty Determination and Order, 60 FR 38035 (July 25, 1995). These cash deposit requirements shall remain in effect until publication of the final results of the next administrative review. See section 751(a)(2)(C) of the Act.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice also serves as a reminder to parties subject to Administrative Protective Order (“APO”) of their responsibility concerning the return or destruction of proprietary information disclosed under APO in accordance with 19 CFR 351.305. Timely written notification of the return/destruction of APO materials or conversion to judicial protective order is hereby requested. Failure to comply with the regulations and terms of an APO is a violation which is subject to sanctions.

We are issuing and publishing these results and this notice in accordance with sections 751(a)(1) and 777(i)(1) of the Act.

Dated: November 18, 2005.
Joseph A. Spetrini,
Acting Assistant Secretary for Import Administration.

APPENDIX I

List of Comments in the Issues and Decision Memorandum

Comment 1: Certain Loss Related to General and Administrative Expenses (Cost Adjustment #1)

Comment 2: Changes in Inventory (Cost Adjustment #2)

Comment 3: Cost Adjustment #3

Comment 4: Financial Expenses

Comment 5: Technical Services Adjustment

Comment 6: Duty Drawback

Comment 7: Packing Costs

[FR Doc. 05-23281 Filed 11-23-05; 8:45 am]

BILLING CODE 3510-DS-S